ENVIRONMENTAL PROTECTION AGENCY

[ER-FRL-6662-4]

Environmental Impact Statements; Notice of Availability

Responsible Agency: Office of Federal Activities, General Information (202) 564-7167 or http://www.epa.gov/compliance/nepa/.

Weekly receipt of Environmental Impact Statements

Filed April 4, 2005 Through April 8, 2005

Pursuant to 40 CFR 1506.9.

EIS No. 20050145, FINAL EIS, FHW, MO, I-64/US 40 Corridor, Reconstruction of the existing I-64/US 40 Facility with New Interchange Configurations and Roadway, Funding, City of St. Louis, St. Louis County, MO, Wait Period Ends: May 20, 2005, Contact: Don Neumann (573) 636-7104.

EIS No. 20050146, FINAL EIS, NPS, AR, MS, LA, TN, KY Vicksburg Campaign Trail (VCT) Feasibility Study, To Examine and Evaluate a Number of Sites, Implementation, Mississippi River, AR, LA, TN, MS and KY, Wait Period Ends: May 16, 2005, Contact: Richard Sussman (404) 562-3124.

EIS No. 20050147, FINAL EIS, AFS, ID, American and Crooked Rivers Project, Improve Forest Health and Reduce Hazardous Fuels, Implementation, Nez Perce National Forest, Red River Ranger District, Idaho County, ID, Wait Period Ends: May 16, 2005, Contact: Ester McCullough (208) 983-0885.

EIS No. 20050148, FINAL EIS, FHW, ID, Fernan Lake Safety Improvement Project, Proposal to Reconstruct or Resurface 17.2 km (10.7 mi) Idaho Forest Highway 80 (ID PFH 80) commonly known as Fernan Lake Road, Right-of-Way Permit, Idaho Panhandle National Forests, Coeur d' Alene River Ranger District, Kootenai County, ID, Wait Period Ends: May 16, 2005, Contact: Sajid Aftab (360) 619-7895.

EIS No. 20050149, DRAFT EIS, FHW, WI, U.S. 41 Highway Corridor Project, Transportation Improvement between the Cities of Oconto and Peshtigo, Funding, Marinette and Oconto Counties, WI, Comment Period Ends: June 6, 2005, Contact: Johnny Gerbitz (608) 829-7511.

EIS No. 20050150, FINAL EIS, NAS, Programmatic EIS—Mars Exploration Program (MEP) Implementation, Wait Period Ends: May 16, 2005, Contact: Mark R. Dahl (202) 358-4800.

EIS No. 20050151, DRAFT EIS, AFS, CA, Ansel Adams and John Muir Wildernesses, Trail and Commercial Pack Sock Management, Implementation, Inyo, Mono, Madera and Fresno Counties, CA, Comment Period Ends: June 15, 2005, Contact: MaryBeth Hennessy (760) 873-2448.

Amended Notices

EIS No. 20050086, DRAFT EIS, AFS, WY, Dean Project Area, Proposes to Implement Multiple Resource Management Actions, Black Hills National Forest, Bearlodge Ranger District, Sundance, Crook County, WA, Comment Period Ends: May 2, 2005, Contact: Steve Kozel (307) 283-1361.

Revision of Federal Register Notice Published on 3/11/2005: CEQ Comment Period Ending on 4/25/2005 has been Extended to 5/2/2005.

EIS No. 20050104, DRAFT EIS, NPS, CA, Golden Gate National Recreation Area (GGNRA) Fire Management Plan, Implementation, Muir Woods National Monument, Fort Point National Historic Site, San Mateo, San Francisco and Marin Counties, CA, Comment Period Ends: May 27, 2005, Contact: Alex Naar (415) 331-6374.

Revision of Federal Register Notice Published on 03/18/2005: Correction to Agency from AFS to NPS also, correction to Comment Period from 05/17/05 to 5/27/2005.

EIS No. 20050140, FINAL EIS, FHW, NV, Boulder City/US 93 Corridor Transportation Improvements, Study Limits are between a western boundary on US 95 in the City of Henderson and an eastern boundary on U.S. 93 west of downtown Boulder City, NPDES and U.S. Army COE Section 404 Permits Issuance and Right-of Way Grant, Clark County, NV, Wait Period Ends: May 13, 2005, Contact: Ted P. Bendure (775) 687-5322.

Revision of Federal Register Notice Published on 04/08/05: CEQ Comment Period Ending 05/09/2005 has been extended to 05/13/2005.

Dated: April 12, 2005.
Ken Mittelholtz,
Environmental Protection Specialist, Office of Federal Activities.

[FR Doc. 05-7570 Filed 4-14-05; 8:45 am]

BILLING CODE 6560-50-P